DEPARTMENT OF COMMERCE

Census Bureau

Agency Information Collection Activities; Submission to the Office of Management and Budget (OMB) for Review and Approval; Comment Request; Household Pulse Survey

On July 31, 2020, the Department of Commerce received emergency clearance from the Office of Management and Budget (OMB) in accordance with the Paperwork Reduction Act of 1995 (PRA), Emergency Processing to continue collection for the Household Pulse Survey (OMB No. 0607-1013, Exp. 10/31/20). This notice serves to inform of the Department's submission of an Information Collection Request (ICR) to OMB for the purposes of obtaining regular (non-emergency) clearance for the Household Pulse Survey, with the intention of administering the survey from November, 2020 (upon expiration of the current emergency clearance) through December, 2021. The Department invites the general public and other Federal agencies to comment on proposed, and continuing information collections, which helps us assess the impact of our information collection requirements and minimize the public's reporting burden. Public comments were previously requested via the Federal Register on May 19, 2020 (in response to notice of the Household Pulse Survey as a new, 90-day collection) and again on June 3, 2020 (in response to subsequent notice of the Department's intention to continue the Household Pulse Survey beyond the initial 90 days) during a 60-day comment period. This notice allows for an additional 30 days for public comments.

Agency: U.S. Census Bureau.

Title: Household Pulse Survey.

OMB Control Number: 0607-1013.

Form Number(s): None.

Type of Request: New Request for Regular Clearance for Collection; Collection is Currently Active Under Emergency Clearance Approval.

Number of Respondents: 3,150,000.

Average Hours per Response: 20 minutes.

Burden Hours: 1,039,500.

Needs and Uses: Data produced by the Household Pulse Survey are designed to inform on a range of dimensions that American households are experiencing during the Coronavirus (COVID-19) pandemic, including employment, facility to telework, travel patterns, income loss, spending patterns, food and housing security, access to benefits, mental health and access to care, and educational disruption (K-12 and post-secondary). The Household Pulse Survey was initially launched in April 2020 as an experimental project (see https://www.census.gov/data/experimental-data-products.html) slated to last 90 days; the Office of Management and Budget (OMB) granted emergency clearance for this effort on April 19, 2020. However, as the pandemic has continued and the survey's data have proven useful to government officials and policy makers managing pandemic response and recovery efforts, the Department requested and OMB approved an extension of the emergency clearance on July 31, 2020, which will permit the collection to continue through October 31, 2020. As this will exhaust the emergency clearance authority (180 days), the Department of Commerce is preparing a new Information Collection Request (ICR) to request regular clearance for the continuation of this collection beyond October 31, 2020. This new ICR package will follow shortly upon publication of this notice.

Affected Public: Households.

Frequency: Households will be selected once to participate in a 20-minute survey.

Respondent's Obligation: Voluntary.

Legal Authority: Title 13, United States Code, Sections 8(b), 182; 5 CFR part 1320, Controlling Paperwork Burden on the Public, Section 1320.13.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-1013.

Sheleen Dumas,
Department PRA Clearance Officer, Office of the Chief Information Officer, Commerce Department.

[FR Doc. 2020-20338 Filed 9-14-20; 8:45 am]

BILLING CODE 3510-07-P